DEPARTMENT OF HEALTH AND HUMAN SERVICES

Administration for Children and Families

Funding Opportunity Title: Infant Adoption Awareness Training Program

AGENCY: Administration for Children and Families (ACF) & Children's Bureau, HHS.

Announcement Type: Initial.

Funding Opportunity Number: HHS-2004-ACF-ACYF-CG-0015.

CFDA Number: 93.254.

Due Date for Applications: The due date for receipt of applications is June 28, 2004.

I. Funding Opportunity Description

The purpose of this funding opportunity is to award cooperative agreements to adoption organizations for the purpose of developing and implementing new, or adapting and implementing existing, Infant Adoption Awareness Training Programs (IAATP) that train the designated staff of eligible health centers in providing adoption information and referrals to pregnant women on an equal basis with all other courses of action included in nondirective counseling to pregnant women. The grantees will provide instruction on their curricula to trainers, who will provide training to health center staff. This instruction may be conveyed using training-of-trainers (TOT) courses or other mechanisms that provide continuity and consistency in the training for the instructors.

Background

The Administration on Children, Youth and Families (ACYF) administers national programs for children and youth, works with States and local communities to develop services that support and strengthen family life, seeks joint ventures with the private sector to enhance the lives of children and their families, and provides information and other assistance to parents. The concerns of ACYF extend to all children from the prenatal period through adolescence. Many of the programs administered by the agency focus on children from low-income families; abused and neglected children; children and youth in need of foster care, independent living, adoption or other child welfare services; preschool children; children with disabilities; runaway and homeless youth; and children from Native American and migrant families.

Within ACYF, the Children's Bureau plans, manages, coordinates, and supports child abuse and neglect prevention and child welfare services programs. It administers the Foster Care and Adoption Assistance Program, the Child Welfare Services State Grants Program, Child Welfare Services Training Programs, the Independent Living Program, the Adoption Opportunities Program, the Abandoned Infants Assistance Program, programs supported by the Promoting Safe and Stable Families Act, the Court Improvement Program, and programs funded under the Child Abuse Prevention and Treatment Act (CAPTA), including Basic State grants, the child abuse and neglect discretionary program, the Community-Based Family Resource and Support Program, and the Children's Justice Act Program. The Children's Bureau programs are designed to promote the safety, permanency, and well-being of all children. Training activities such as the Infant Adoption Awareness Training Program (IAATP) contribute to that effort.

The Children's Health Act

With the passage of Public Law 106-310, enacted October 17, 2000, the Congress emphasized the need to address children's health services, pediatric research, developmental disabilities, birth defects prevention, prenatal and postnatal care, and other activities regarding children's health and well-being. Title XII, Subtitle A—Infant Adoption Awareness of the Children's Health Act authorized the U.S. Department of Health and Human Services (HHS) to make grants available to national, regional, or local adoption organizations for the purpose of developing and implementing programs to train the designated staff of eligible health centers in providing adoption information and referrals to pregnant women on an equal basis with all other courses of action included in nondirective counseling to pregnant women. In compliance with the legislation, HHS activities include the following:

• Establish and supervise a process through which adoption organizations and public health entity representatives collaborate to develop best practice guidelines on the provision of adoption information and referrals to pregnant women on an equal basis with all other courses of action included in nondirective counseling to women;

• Award grant funds to adoption organizations to develop training curricula, consistent with the best practice guidelines;

• Ensure that adoption organizations conduct training for all eligible health centers; and

• Report to the appropriate committees of Congress evaluating the extent to which adoption information and referral, upon request, are provided by eligible health centers in order to determine the effectiveness of such training and the extent to which the training addresses the requirement to provide information and referrals to pregnant women on an equal basis with all other courses of action included in nondirective counseling to women.

Statutory Authority: Section 330F of the PHS Act, as amended by Title XII, Subtitle A, of the Children's Health Act of 2000 [42 U.S.C. 254c-6].

Multi-Ethnic Placement Act

Training materials must encompass MEPA requirements. The Multiethnic Placement Act (MEPA) as amended by the Interethnic Placement Act (Section 1808 of the Small Business Job Protection Act of 1996) addresses the issue of race in foster care and adoption placements. Specifically, MEPA prohibits the delay or denial of any adoption or placement in foster care due to the race, color, or national origin of the child or the foster or adoptive parents and requires States to provide for diligent recruitment of potential foster and adoptive families that reflect the ethnic and racial diversity of children for whom homes are needed. Section 1808 of Public Law 104-188 affirms the prohibition against delaying or denying the placement of a child for adoption or foster care on the basis of race, color, or national origin of the foster or adoptive parents or the child involved [42 U.S.C. 1996b].

Definitions

Title XII of the Children's Health Act of 2000, which pertains to the IAATP, defines the term “adoption organization” as a “national, regional, or local organization among whose primary purposes is adoption; that is knowledgeable in all elements of the adoption process and on providing adoption information and referrals to pregnant women; and that is a nonprofit private entity.”

The term “designated staff” pertains to staff at an eligible health center “who provide pregnancy or adoption information and referrals (or will provide such information and referrals after receiving training under a grant).”

The term “eligible health centers” as defined in the legislation refers to “public and nonprofit private entities that provide health services to pregnant women,” and these entities are targeted for the receipt of training. These entities are not eligible to submit applications for funding under this program announcement to provide the training. There are approximately 3,000 entities that fit the definition of “eligible health centers” and are therefore eligible to receive training under the IAATP. The adoption organizations involved agree to make reasonable efforts to ensure that the eligible health centers with respect to which training under the grant is provided include eligible health centers that receive grants under section 1001 (relating to voluntary family planning projects); eligible health centers that receive grants under section 330 (relating to community health centers, migrant health centers, and centers regarding homeless individuals and residents of public housing); and eligible health centers that receive grants under this Act (Children's Health Act of 2000) for the provision of services in schools (subsection (a)(5)).

Projects funded under this program must do the following things:

The IAATP is designed to ensure that counselors in health clinics and other settings provide women who have unplanned pregnancies with complete and accurate information on adoption, as well as any other options available to them.

Grantees must adapt or develop an IAATP curriculum, invite designated staff of eligible health centers (including those funded under PHSA sections specified above) to training, schedule training, plan and implement IAATP sessions, and complete post-training activities (e.g., participant reimbursement and evaluation).

Approximately four weeks after the award of the cooperative agreements, the project director, the curriculum designer and/or the training director for each IAATP will be required to attend a two-day meeting in Washington, DC, sponsored by the Children's Bureau for IAATP awardees funded under this funding opportunity. Attendees will become part of the membership of the IAATP Network. During this conference, DHHS staff will review the best practice guidelines developed for the IAATP and discuss the implications for developing or adapting the curricula and related educational materials. Scheduling matters and plans for ensuring that the designated staffs of eligible health centers receive training during the two-year course of the cooperative agreement will be outlined and discussed. The Children's Bureau anticipates reconvening the IAATP Network for a two-day meeting in Washington, DC, at the beginning of the second project year.

Grantees will be required to adapt existing training programs or to develop and implement new training programs for the designated staff of the eligible health centers that provide adoption information and referrals to pregnant women on an equal basis with all other courses of action included in nondirective counseling to pregnant women.

Within four months of the award of the cooperative agreement, grantees will be required to submit to the Children's Bureau an IAATP curriculum for review and approval. After review of the submitted curriculum, the Children's Bureau may require the grantee to make revisions before implementing the training. The curriculum must:

(1) Be competency-based;

(2) Conform to professionally recognized standards for curriculum format and style;

(3) Be consistent with the best practices guidelines, required by the statute;

(4) Be pilot tested and appropriately modified, as necessary, before broad use; and

(5) Be reliably evaluated.

Grantees will be required to make reasonable efforts to ensure that the individuals who provide the program training are individuals who are knowledgeable in all elements of the adoption process and are experienced in providing adoption information and referrals in the geographic areas in which the eligible health centers are located.

To the extent possible, training of designated staff of the health centers is to be conducted in the geographic areas in which the centers are located. Grantees will be required to cooperate and coordinate with the Children's Bureau and the other members of the IAATP Network in selecting sites for health center staff training and scheduling these events to ensure that geographic regions are neither over-served nor under-served.

Within seven months of the award of the cooperative agreement, grantees will be required to begin training of the designated staff of health centers.

Grantees will be required to provide reimbursement to health centers that are grantees funded under PHSA Sections 330 or 1001 for all costs incurred in obtaining training for the designated staff.

Grantees will be required to cooperate fully in any and all evaluations of IAATP sponsored by the Department of Health and Human Services.

Grantees will be required to implement an evaluation of their IAATP project which:

(a) Includes appropriate performance feedback, data collection and periodic assessment of program progress that can be used effectively to improve the curriculum, as necessary, and serve as a sound basis for program improvements;

(b) Includes the effective use of objective performance measures that are clearly related to the intended outcomes of the program and will produce useful quantitative and qualitative outcome data;

(c) Collects high quality data on individuals and families, the types of services provided and used, the outcomes of these services, and their cost effectiveness;

(d) Includes appropriate procedures for collecting data collection and securing informed consent; and

(e) Includes appropriate procedures for an Institutional Review Board (IRB) review, if applicable.

II. Award Information

Funding Instrument Type: Cooperative Agreement.

Description of Federal Substantial Involvement with Cooperative Agreement: A cooperative agreement is a specific method of awarding Federal assistance in which substantial Federal involvement is anticipated. A cooperative agreement clearly defines the respective responsibilities of the Children's Bureau and the grantee prior to award. The Children's Bureau anticipates that agency involvement will produce programmatic benefits to the recipient otherwise unavailable to them for carrying out the project. The involvement and collaboration includes Children's Bureau review and approval of planning stages of the activities before implementation phases may begin and Children's Bureau and recipient joint collaboration in the performance of key programmatic activities (i.e., strategic planning, implementation, information technology enhancements, training and technical assistance, publications or products, and evaluation). There will be close monitoring by the Children's Bureau regarding the requirements stated in this announcement that limit the grantee's discretion with respect to scope of services offered, organizational structure and management processes. There will also be close Children's Bureau monitoring during performance, in order to assure compliance with the intent of this funding. This monitoring will exceed those Federal stewardship responsibilities customary for grant activities.

Anticipated Total Program Funding: The anticipated total for all awards under this funding announcement in FY2004 is $9 million.

Anticipated Number of Awards: It is anticipated that up to 10 projects will be funded.

Ceiling on Amount of Individual Awards: The maximum Federal share of the project is dependent on the scope of the project submitted. The Children's Bureau will accept applications for projects of national, regional, or local scope. The Federal share of projects of national scope may not exceed $6,000,000 in the first budget period. The Federal share of smaller, regional projects may not exceed $1,500,000 in the first budget period. An application received that exceeds the upper value of dollar range specified will be considered “non-responsive” and be returned to the applicant without further review.

Floor of Individual Award Amounts: None.

Average Projected Award Amount: $1,500,000 to $6,000,000 per budget period.

Project Periods for Awards: The projects will be awarded for a project period of 24 months. The initial grant award will be for a 12-month budget period. The award of continuation funding beyond each 12-month budget period will be subject to the availability of funds, satisfactory progress on the part of the grantee, and a determination that continued funding would be in the best interest of the government.

III. Eligibility Information

1. Eligible Applicants

State governments

County governments

City or township governments

State controlled institutions of higher education

Native American tribal governments (Federally recognized)

Native American tribal organizations (other than Federally recognized tribal governments)

Nonprofits having a 501(c)(3) status with the IRS, other than institutions of higher education

Private institutions of higher education

Faith-based and Community-based organizations

Additional Information on Eligibility: Eligibility is limited to organizations among whose primary purposes are adoption and that are knowledgeable in all elements of the adoption process and in providing adoption information and referral to pregnant women. Faith-based and community organizations that meet all other eligibility criteria are eligible to apply.

Proof of non-profit status is any one of the following:

(a) A reference to the applicant organization's listing in the Internal Revenue Service's (IRS) most recent list of tax-exempt organizations described in the IRS code.

(b) A copy of a currently valid IRS tax exemption certificate.

(c) A statement from a State taxing body, State Attorney General, or other appropriate State official certifying that the applicant organization has a non-profit status and that none of the net earnings accrue to any private shareholders or individuals.

(d) A certified copy of the organization's certificate of incorporation or similar document that clearly establishes non-profit status.

(e) Any of the items in the subparagraphs immediately above for a State or national parent organization and a statement signed by the parent organization that the applicant organization is a local non-profit affiliate.

Private non-profit organizations are encouraged to submit with their applications the survey located under “Grant Related Documents and Forms” titled “Survey for Private, Non-Profit Grant Applicants” at http://www.acf.hhs.gov/programs/ofs/forms.htm.

2. Cost Sharing or Matching

Cost sharing or matching funds are not required for applications submitted under this program announcement.

3. Other

On June 27, 2003, the Office of Management and Budget published in the Federal Register a new Federal policy applicable to all Federal grant applicants. The policy requires all Federal grant applicants to provide a Dun and Bradstreet Data Universal Numbering System (DUNS) number when applying for Federal grants or cooperative agreements on or after October 1, 2003. The DUNS number will be required whether an applicant is submitting a paper application or using the government-wide electronic portal (http://www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number on-line at http://www.dnb.com.

Applications that exceed the ceiling amount will be considered non-responsive and will not be eligible for funding under this announcement.

Applications that fail to follow the required format described in Section IV.2. Content and Form of Application Submission will be considered non-responsive and will not be eligible for funding under this announcement.

IV. Application and Submission Information

1. Address To Request Application Package

ACYF Operations Center, c/o The Dixon Group, Inc., ATTN: Children's Bureau, 118 Q Street, NE., Washington, DC 20002-2132; Telephone: (866) 796-1591.

URL to Obtain Application: http://www.Grants.gov.

2. Content and Form of Application Submission

You may submit your application to us in either electronic or paper format. To submit an application electronically, please use the www.Grants.gov apply site. If you use Grants.gov you will be able to download a copy of the application package, complete it off-line, and then upload and submit the application via the Grants.gov site. You may not e-mail an electronic copy of the grant application to us.

Please note the following if you plan to submit your application electronically via Grants.gov:

• Electronic submission is voluntary.

• When you enter the Grants.gov site, you will find information about submitting an application electronically through the site, as well as the hours of operation. We strongly recommend that you do not wait until the application deadline date to begin the application process through Grants.gov.

• To use Grants.gov, you, as the applicant, must have a DUNS Number and register in the Central Contractor Registry (CCR). You should allow a minimum of five days to complete the CCR registration.

• You will not receive additional point value because you submit a grant application in electronic format, nor will we penalize you if you submit an application in paper format.

• You may submit all documents electronically, including all information typically included on the SF 424 and all necessary assurances and certifications.

• Your application must comply with any page limitation requirements described in this program announcement.

• After you electronically submit your application, you will receive an automatic acknowledgement from Grants.gov that contains a Grants.gov tracking number. The Administration for Children and Families will retrieve your application from Grants.gov.

• We may request that you provide original signatures on forms at a later date.

• You may access the electronic application for this program on http://www.Grants.gov.

• You must search for the downloadable application package by the CFDA number.

Private, non-profit organizations may voluntarily submit with their applications the survey located under “Grant Related Documents and Forms” titled “Survey for Private, Non-Profit Grant Applicants” at http://www.acf.hhs.gov/programs/ofs/forms.htm.

Please see Section V.1. Criteria for instructions on preparing the project summary/abstract and the full project description.

Each application must contain the following items in the order listed:

—Application for Federal Assistance (Standard Form 424). Follow the instructions below and those that accompany the form.

In Item 5 of Form 424, put DUNS number in “Organizational DUNS:” box.

In Item 5 of Form 424, include name, phone number, and, if available, email and fax numbers of the contact person.

In Item 8 of Form 424, check “New.”

In Item 10 of Form 424, clearly identify the Catalog of Federal Domestic Assistance (CFDA) program title and number for the program for which funds are being requested as stated in this funding opportunity announcement.

In Item 11 of Form 424, identify the single funding opportunity the application addresses.

In Item 12 of Form 424, identify the specific geographic area to be served.

In Item 14 of Form 424, identify Congressional districts of both the applicant and project.

—Budget Information Non-Construction Programs (Form 424A) and Budget Justification.

Follow the instructions provided and those in Section V. Application Review Information. Note that Federal funds provided to States and services or other resources purchased with Federal funds may not be used to match project grants.

Applicants have the option of omitting from application copies (not originals) specific salary rates or amounts for individuals specified in the application budget. The copies may include summary salary information.

—Certifications/Assurances. Applicants requesting financial assistance for non-construction projects must file the Standard Form 424B, “Assurances: Non-Construction Programs.” Applicants must sign and return the Standard Form 424B with their applications.

Applicants must provide a “Certification Regarding Lobbying” Form when applying for an award in excess of $100,000. Applicants must sign and return the certification with their applications.

Applicants must disclose lobbying activities on the Standard Form LLL when applying for an award in excess of $100,000. Applicants who have used non-Federal funds for lobbying activities in connection with receiving assistance under this announcement shall complete a disclosure form to report lobbying. Applicants must sign and return the disclosure form, if applicable, with their applications.

Applicants must make the appropriate certification regarding environmental tobacco smoke. By signing and submitting the application, the applicant is providing the certification and need not mail back the certification with the applications.

If applicable, applicants must include a completed SPOC certification (Single Point of Contact) with the date of the SPOC contact entered in line 16, page 1 of the Form 424.

By signing the “Signature of Authorized Representative” on the SF 424, the applicant is providing a certification and need not mail assurances for completing the following grant and cooperative agreement requirements:

The applicant will have the project fully functioning within 90 days of the notification of the grant award.

The applicant will submit all required semi-annual and final Financial Status Reports (SF269) and Program Performance Reports in a timely manner, in hard-copy and electronic formats (preferably MS WORD and PDF) as negotiated with the Federal Project Officer.

The applicant will allocate sufficient funds in the budget to provide for the project director and the evaluator to attend an annual three-day grantees' meeting in Washington, DC and an early kick off meeting to be held within the first six months of the project (first year only) in Washington, DC. Attendance at these meetings is a grant requirement.

The applicant will participate if the Children's Bureau chooses to do a national evaluation or a technical assistance contract which relates to this funding opportunity.

The Office for Human Research Protections of the U.S. Department of Health and Human Services provides Web site information and policy guidance on the Federal regulations pertaining to protection of human subjects (45 CFR 46), informed consent, informed consent checklists, confidentiality of personal identification information, data collection procedures, and internal review boards: http://ohrp.osophs.dhhs.gov/polasur.htm.

If applicable, applicants must include a completed Form 310, Protection of Human Subjects.

—Project Abstract/Summary (one page maximum). Clearly mark this page with the applicant name as shown on item 5 of the Form 424, identify the competitive grant funding opportunity and the title of the proposed project as shown in item 11 and the service area as shown in item 12 of the Form 424. The summary description should not exceed 300 words.

Care should be taken to produce an abstract/summary that accurately and concisely reflects the proposed project (see Section V. Application Review Information). It should describe the objectives of the project, the approach to be used and the results or benefits expected.

—Project Description for Evaluation. Applicants should organize their project description according to the Evaluation Criteria described in Section V. Application Review Information of this funding opportunity announcement providing information that addresses all the components. It is strongly recommended that applicants organize their proposals in the same sequence and using the same headings as these criteria, so that reviewers can readily find information that directly addresses each of the specific review criteria.

—Proof of non-profit status (if applicable). See Section III. Eligibility Information for submission information.

—Indirect cost rate agreement. If claiming indirect costs, provide documentation that applicant currently has an indirect cost rate approved by the Department of Health and Human Services (HHS) or another cognizant Federal agency.

—Letters of agreement and memoranda of understanding. If applicable, include a letter of commitment or Memorandum of Understanding from each partner organization and/or sub-contractor describing their role, detailing specific tasks to be performed, and expressing commitment to participate if the proposed project is funded.

—The application limit is 90 pages total including all forms and attachments. Submit one original and two copies.

To be considered for funding, each application must be submitted with the Standard Federal Forms (provided at the end of this announcement or through the electronic links provided) and following the guidance provided. The application must be signed by an individual authorized to act for the applicant agency and to assume responsibility for the obligations imposed by the terms and conditions of the grant award.

To be considered for funding, each applicant must submit one signed original and two additional copies of the application, including all forms and attachments, to the application receipt point specified in Section IV.3. Submission Dates and Times. The original copy of the application must have original signatures, signed in black ink.

The application must be typed, double spaced, printed on only one side, with at least ½ inch margins on each side and 1 inch at the top and bottom, using standard 12 Point fonts (such as Times Roman or Courier). Pages must be numbered.

Pages over the page limit stated within this funding opportunity announcement will be removed from the application and will not be reviewed. All copies of an application must be submitted in a single package, and a separate package must be submitted for each funding opportunity. The package must be clearly labeled for the specific funding opportunity it is addressing.

Because each application will be duplicated, do not use or include separate covers, binders, clips, tabs, plastic inserts, maps, brochures, or any other items that cannot be processed easily on a photocopy machine with an automatic feed. Do not bind, clip, staple, or fasten in any way separate subsections of the application, including supporting documentation. Applicants are advised that the copies of the application submitted, not the original, will be reproduced by the Federal government for review. Each copy must be stapled securely in the upper left corner.

Tips for Preparing a Competitive Application: It is essential that applicants read the entire announcement package carefully before preparing an application and include all of the required application forms and attachments. The application must reflect a thorough understanding of the purpose and objectives of the Children's Bureau priority-area initiatives. Reviewers expect applicants to understand the goals of the legislation and the Children's Bureau's interest in each topic. A “responsive application” is one that addresses all of the evaluation criteria in ways that demonstrate this understanding. Applications that are considered to be “unresponsive” generally receive very low scores and are rarely funded.

The Children's Bureau's Web site (http://www.acf.dhhs.gov/programs/cb) provides a wide range of information and links to other relevant web sites. Before you begin preparing an application, we suggest that you learn more about the mission and programs of the Children's Bureau by exploring the Web site.

Organizing Your Application: The specific evaluation criteria in Section V. Application Review Information of this funding announcement will be used to review and evaluate each application. The applicant should address each of these specific evaluation criteria in the project description. It is strongly recommended that applicants organize their proposals in the same sequence and using the same headings as these criteria, so that reviewers can readily find information that directly addresses each of the specific review criteria.

Project Evaluation Plan: Project evaluations are very important. If you do not have the in-house capacity to conduct an objective, comprehensive evaluation of the project, then the Children's Bureau advises that you propose contracting with a third-party evaluator specializing in social science or evaluation, or a university or college, to conduct the evaluation. A skilled evaluator can assist you in designing a data collection strategy that is appropriate for the evaluation of your proposed project. Additional assistance may be found in a document titled “Program Manager's Guide to Evaluation.” A copy of this document can be accessed at http://www.acf.hhs.gov/programs/core/pubs_reports/prog_mgr.html or ordered by contacting the National Clearinghouse on Child Abuse and Neglect Information, 330 C Street, SW., Washington, DC 20447; phone (800) 394-3366; fax (703) 385-3206; e-mail nccanch@calib.com.

Logic Model: A logic model is a tool that presents the conceptual framework for a proposed project and explains the linkages among program elements. While there are many versions of the logic model, they generally summarize the logical connections among the needs that are the focus of the project, project goals and objectives, the target population, project inputs (resources), the proposed activities/processes/outputs directed toward the target population, the expected short- and long-term outcomes the initiative is designed to achieve, and the evaluation plan for measuring the extent to which proposed processes and outcomes actually occur. Information on the development of logic models is available on the Internet at http://www.uwex.edu/ces/pdande/ or http://www.extension.iastate.edu/cyfar/capbuilding/outcome/outcome_logicmdir.html.

Use of Human Subjects: If your evaluation plan includes gathering data from or about clients, there are specific procedures which must be followed in order to protect their privacy and ensure the confidentiality of the information about them. Applicants planning to gather such data are asked to describe their plans regarding an Institutional Review Board (IRB) review. For more information about use of human subjects and IRB's you can visit these web sites: http://ohrp.osophs.dhhs.gov/irb/irb_chapter2.htm#d2 and http://ohrp.osophs.dhhs.gov/humansubjects/guidance/ictips.htm.

3. Submission Dates and Times

The closing time and date for receipt of applications is 4:30 p.m. Eastern Standard Time (EST) on June 28, 2004. Mailed or handcarried applications received after 4:30 p.m. on the closing date will be classified as late.

Deadline: Mailed applications shall be considered as meeting an announced deadline if they are received on or before the deadline time and date at the following address: ACYF Operations Center, c/o The Dixon Group Inc., ATTN: Children's Bureau, 118 Q Street, NE., Washington, DC 20002-2132.

Applicants are responsible for mailing applications well in advance, when using all mail services, to ensure that the applications are received on or before the deadline time and date.

Applications hand-carried by applicants, applicant couriers, or by other representatives of the applicant shall be considered as meeting an announced deadline if they are received on or before the deadline date, between the hours of 8 a.m. and 4:30 p.m., EST, at ACYF Operations Center, c/o The Dixon Group, ATTN: Children's Bureau, 118 Q Street, NE., Washington, DC 20002-2132, between Monday and Friday (excluding Federal holidays). This address must appear on the envelope/package containing the application with the note “ATTN: Children's Bureau.” Applicants are cautioned that express/overnight mail services do not always deliver as agreed. ACF cannot accommodate transmission of applications by fax.

Late applications: Applications which do not meet the criteria above are considered late applications. ACF shall notify each late applicant that its application will not be considered in the current competition.

Extension of deadlines: ACF may extend application deadlines when circumstances such as acts of God (floods, hurricanes, etc.) occur, or when there are widespread disruptions of mails service. Determinations to extend or waive deadline requirements rest with the Chief Grants Management Officer.

Required Forms: Numbers for each required item correspond to the numbering of the description of these items in Section IV.2. Content and Form of Application Submission.

What to submit | Required content | Required form or format | When to submit
1. SF424 | Per required form | May be found at http://www.acf.hhs.gov/programs/ofs/forms.htm | See application due date.
2. SF424A | Per required form | May be found at http://www.acf.hhs.gov/programs/ofs/forms.htm | See application due date.
3.a. SF424B | Per required form | May be found at http://www.acf.hhs.gov/programs/ofs/forms.htm | See application due date.
3.b. Certification regarding lobbying | Per required form | May be found at http://www.acf.hhs.gov/programs/ofs/forms.htm | See application due date.
3.c. Disclosure of Lobbying Activities (SF-LLL) | Per required form | May be found at http://www.acf.hhs.gov/programs/ofs/forms.htm | See application due date.
4. Project Summary/Abstract | Summary of application request | See instructions in this funding announcement | See application due date.
5. Project Description | Responsiveness to evaluation criteria | See instructions in this funding announcement | See application due date.
6. Proof of non-profit status | See above | See above | See application due date.
7. Indirect cost rate agreement | See above | See above | See application due date.
8. Letters of agreement & MOUs | See above | See above | See application due date.
9. Total application | See above | Application limit 90 pages total including all forms and attachments. Submit one original and two copies | See application due date.

Additional Forms

Private-non-profit organizations may submit with their applications the additional survey located under “Grant Related Documents and Forms” titled “Survey for Private, Non-Profit Grant Applicants.”

What to submit | Required content | Required form or format | When to submit
Survey for Private, Non-Profit Grant Applicants | Per required form | May be found at http://www.acf.hhs.gov/programs/ofs/forms.htm | See application due date.

4. Intergovernmental Review

State Single Point of Contact (SPOC)

This program is covered under Executive Order (E.O.) 12372, “Intergovernmental Review of Federal Programs”, and 45 CFR Part 100, “Intergovernmental Review of Department of Health and Human Services Programs and Activities.” Under the Order, States may design their own processes for reviewing and commenting on proposed Federal assistance under covered programs.

As of October 2003, of the most recent SPOC list, the following jurisdictions have elected not to participate in the Executive Order process. Applicants from these jurisdictions or for projects administered by federally-recognized Indian Tribes need take no action in regard to E.O. 12372: Alabama, Alaska, Arizona, Colorado, Connecticut, Hawaii, Idaho, Indiana, Kansas, Louisiana, Minnesota, Montana, Nebraska, New Jersey, Ohio, Oklahoma, Oregon, Palau, Pennsylvania, South Dakota, Tennessee, Vermont, Virginia, Washington and Wyoming.

Although the jurisdictions listed above no longer participate in the process, entities which have met the eligibility requirements of the program are still eligible to apply for a grant even if a State, Territory, Commonwealth, etc. does not have a SPOC. All remaining jurisdictions participate in the Executive Order process and have established SPOCs. Applicants from participating jurisdictions should contact their SPOCs as soon as possible to alert them of the prospective applications and receive instructions. Applicants must submit any required material to the SPOCs as soon as possible so that the program office can obtain and review SPOC comments as part of the award process. The applicant must submit all required materials, if any, to the SPOC and indicate the date of this submittal (or the date of contact if no submittal is required) on the Standard Form 424, item 16a. Under 45 CFR 100.8(a) (2), a SPOC has 60 days from the application deadline to comment on proposed new or competing continuation awards.

SPOCs are encouraged to eliminate the submission of routine endorsements as official recommendations. Additionally, SPOCs are requested to differentiate clearly between mere advisory comments and those official State process recommendations which may trigger the “accommodate or explain” rule.

When comments are submitted directly to ACF, they should be addressed to: Department of Health and Human Services, Administration for Children and Families, Division of Discretionary Grants, 370 L'Enfant Promenade, SW., Washington, DC 20447.

The official list, including addresses, of the jurisdictions elected to participate in E.O. 12372 can be found on the following URL: http://www.whitehouse.gov/omb/grants/spoc.html.

5. Funding Restrictions

Grant awards will not allow reimbursement of pre-award costs. Construction is not an allowable activity or expenditure under this solicitation.

6. Other Submission Requirements

Submission by Mail: Mailed applications shall be considered as meeting an announced deadline if they are received on or before the deadline time and date at the following address: ACYF Operations Center, c/o The Dixon Group, Inc., ATTN: Children's Bureau, 118 Q Street, NE., Washington, DC 20002-2132.

Applicants are responsible for mailing applications well in advance, when using all mail services, to ensure that the applications are received on or before the deadline time and date.

For Hand Delivery: Applications hand-carried by applicants, applicant couriers, or by other representatives of the applicant shall be considered as meeting an announced deadline if they are received on or before the deadline date, between the hours of 8 a.m. and 4:30 p.m., EST, at ACYF Operations Center, c/o The Dixon Group, Inc., ATTN: Children's Bureau, 118 Q Street, NE., Washington, DC 20002-2132, between Monday and Friday (excluding Federal holidays). This address must appear on the envelope/package containing the application with the note “ATTN: Children's Bureau.” Applicants are cautioned that express/overnight mail services do not always deliver as agreed. ACF cannot accommodate transmission of applications by fax.

Electronic Submission: Please see Section IV. 2. Content and Form of Application Submission, for guidelines and requirements when submitting applications electronically.

V. Application Review Information

1. Criteria

The Paperwork Reduction Act of 1995 (Pub. L. 104-13)

Public reporting burden for this collection of information is estimated to average 40 hours per response, including the time for reviewing instructions, gathering and maintaining the data needed and reviewing the collection information. The project description is approved under OMB control number 0970-0139 which expires 3/31/2004. An agency may not conduct or sponsor, and a person is not required to respond to, a collection of information unless it displays a currently valid OMB control number.

General Instruction for Preparing Full Project Description

Introduction

Applicants required to submit a full project description shall prepare the project description statement in accordance with the following instructions and the specified evaluation criteria. The instructions give a broad overview of what your project description should include while the evaluation criteria expands and clarifies more program-specific information that is needed.

Project Summary/Abstract

Provide a summary of the project description (a page or less) with reference to the funding request.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Approach

Outline a plan of action which describes the scope and detail of how the proposed work will be accomplished. Account for all functions or activities identified in the application. Cite factors which might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished. When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

Organizational Profiles

Provide information on the applicant organization(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission.

The non-profit agency can accomplish this by providing a copy of the applicant's listing in the Internal Revenue Service's (IRS) most recent list of tax-exempt organizations described in Section 501(c)(3) of the IRS code, or by providing a copy of the currently valid IRS tax exemption certificate, or by providing a copy of the articles of incorporation bearing the seal of the State in which the corporation or association is domiciled.

Budget and Budget Justification

Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

Equipment

Description: “Equipment” means an article of nonexpendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the Equipment category.

Justification: Specify general categories of supplies and their costs. Show computations and provide other information which supports the amount requested.

Contractual

Description: Costs of all contracts for services and goods except for those which belong under other categories such as equipment, supplies, construction, etc. Third party evaluation contracts (if applicable) and contracts with secondary recipient organizations, including delegate agencies and specific project(s) or businesses to be financed by the applicant, should be included under this category.

Justification: All procurement transactions shall be conducted in a manner to provide, to the maximum extent practical, open and free competition. Recipients and subrecipients, other than States that are required to use Part 92 procedures, must justify any anticipated procurement action that is expected to be awarded without competition and exceed the simplified acquisition threshold fixed at 41 U.S.C. 403(11). Recipients might be required to make available to ACF pre-award review and procurement documents, such as request for proposals or invitations for bids, independent cost estimates, etc.

Note: Whenever the applicant intends to delegate part of the project to another agency, the applicant must provide a detailed budget and budget narrative for each delegate agency, by agency title, along with the required supporting information referred to in these instructions.

Other

Enter the total of all other costs. Such costs, where applicable and appropriate, may include but are not limited to insurance, food, medical and dental costs (noncontractual), professional services costs, space and equipment rentals, printing and publication, computer use, training costs, such as tuition and stipends, staff development costs, and administrative costs. Justification: Provide computations, a narrative description and a justification for each cost under this category.

Indirect Charges

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, it should immediately upon notification that an award will be made, develop a tentative indirect cost rate proposal based on its most recently completed fiscal year in accordance with the principles set forth in the cognizant agency's guidelines for establishing indirect cost rates, and submit it to the cognizant agency. Applicants awaiting approval of their indirect cost proposals may also request indirect costs. It should be noted that when an indirect cost rate is requested, those costs included in the indirect cost pool should not also be charged as direct costs to the grant. Also, if the applicant is requesting a rate which is less than what is allowed under the program, the authorized representative of the applicant organization must submit a signed acknowledgement that the applicant is accepting a lower rate than allowed.

Specific Evaluation Criteria

The following criteria will be used to review and evaluate each application. The applicant should address each criterion in the project description. The point values (summing up to 100) indicate the maximum numerical weight each criterion will be accorded in the review process.

Criterion 1. Objectives and Need for Assistance

In reviewing the objectives and need for assistance, the following factors will be considered: (20 points)

(1) The extent to which the application demonstrates a clear understanding of the goals and objectives of IAATP. The extent to which the proposed approach to curriculum adaptation or design and training implementation will contribute to achieving the legislative goals.

(2) The extent to which the training goals (end products of an effective project), objectives (measurable steps for reaching these goals) and outcomes are clearly specified and measurable, and reflect an understanding of the health care setting in which the training recipients work and the context in which eligible health centers operate.

(3) The extent to which the application demonstrates a thorough knowledge of the issues faced by adolescents and women with unplanned pregnancies and the importance of providing adoption information and referrals to pregnant women on an equal basis with all other courses of action included in nondirective counseling.

(4) The extent to which the selection of the geographic region that will be served by the training, including the number and types of eligible health centers in the area is clearly justified.

(5) The extent to which the application demonstrates a thorough knowledge of the legal framework of adoption, and adoption services and resources in the geographic area in which the proposed training will be conducted.

(6) The extent to which the application describes the benefits that clients of the eligible health centers will derive.

(7) The extent to which the application demonstrates that the proposed curriculum and training will contribute to increased knowledge of the problems, issues, and effective strategies and best practices in the field.

Criterion 2. Approach

In reviewing the approach, the following factors will be considered: (50 points)

(1) The extent to which the design of IAATP curriculum:

(a) Is competency-based;

(b) Conforms to professionally recognized standards for curriculum format and style;

(c) Is consistent with the best practices guidelines required by the statute;

(d) Is culturally responsive to the diverse population of health center pregnancy counselors and their clients;

(e) Is pilot-tested and appropriately modified, as necessary, before broad use; and

(f) Can be readily evaluated.

(2) The extent to which the proposed plan for providing instruction on the curricula to trainers and the plan for these trainers providing training to health center staff is clear and likely to succeed.

(3) The extent to which the proposed plan for targeting the training to the medical audience for whom it is designed is clear and likely to succeed.

(4) The extent to which the proposed plan for achieving the objectives of the proposed project on time and within budget, including clearly defined responsibilities, timelines and milestones for accomplishing project tasks is clear and likely to succeed.

(5) The extent to which the proposed plan to establish and coordinate linkages with other appropriate agencies and organizations on the local, State or Federal level serving the target population is clear and likely to succeed.

(6) The extent to which the application proposes a clear and convincing plan for evaluating the IAATP project. The extent to which this plan satisfies the requirements listed in Section I. Funding Opportunity Description.

(7) The extent to which the project is likely to yield findings or results about effective strategies, and contribute to and promote evaluation research and evidence-based practices that may be used to guide replication or testing in other settings.

(8) The extent to which products would be developed during the proposed project, providing information on strategies utilized and the outcomes achieved that would support evidence-based improvements of practices in the field. The extent to which the schedule for developing these products, and the proposed dissemination plan is appropriate in scope and budget.

(9) The extent to which the intended audience (e.g., researchers, policymakers, and practitioners) for product dissemination is appropriate to the goals of the proposed project. The extent to which the project's products would be useful to each of these audiences. The plan for disseminating information. The mechanisms and forums that would be used to convey the information and support replication by other interested agencies.

(10) The extent to which the proposed plan for continuing this project beyond the period of Federal funding is realistic.

Criterion 3. Organizational Profiles

In reviewing the organizational profiles, the following factors will be considered: (20 points)

(1) The extent to which the applicant organization and any partnering organizations collectively have sufficient experience and expertise in developing curricula and other educational materials incorporating best practice guidelines on the provision of adoption information; and experience with administration, development, implementation, management, and evaluation of similar projects. The extent to which each participating organization (including partners and/or subcontractors) possesses the organizational capability to fulfill their assigned roles and functions effectively (if the application involves partnering and/or subcontracting with other agencies/organizations).

(2) The extent to which the proposed project director and key project staff possess sufficient relevant knowledge, experience and capabilities to implement and manage a project of this size, scope and complexity effectively. The extent to which the role, responsibilities and time commitments of each proposed project staff position, including consultants, subcontractors and/or partners, are clearly defined and appropriate to the successful implementation of the proposed project. The extent to which the author of this proposal will be closely involved throughout the implementation of the proposed project.

(3) The extent to which there is a sound management plan for achieving the objectives of the proposed project on time and within budget, including clearly defined responsibilities, timelines and milestones for accomplishing project tasks and ensuring quality. The extent to which the plan clearly defines the role and responsibilities of the lead agency. The extent to which the plan clearly describes the effective management and coordination of activities carried out by any partners, subcontractors and consultants (if appropriate). The extent to which there would be a mutually beneficial relationship between the proposed project and other work planned, anticipated or underway with Federal assistance by the applicant.

Criterion 4. Budget and Budget Justification

In reviewing the budget and budget justification, the following factors will be considered: (10 points)

(1) The extent to which the costs of the proposed project are reasonable, in view of the activities to be conducted and expected results and benefits.

(2) The extent to which the applicant's fiscal controls and accounting procedures would ensure prudent use, proper and timely disbursement and accurate accounting of funds received under this program announcement.

2. Review and Selection Process

When the Operations Center receives your application, it will be screened to confirm that your application was received by the deadline. Federal staff will verify that you are an eligible applicant and that the application contains all the essential elements. Applications received from ineligible organizations and applications received after the deadline will be withdrawn from further consideration.

A panel of at least three reviewers (primarily experts from outside the Federal government) will use the evaluation criteria described in this announcement to evaluate each application. The reviewers will determine the strengths and weaknesses of each application, provide comments about the strengths and weaknesses and give each application a numerical score.

All applications will be reviewed and evaluated using four major criteria: (1) Objectives and need for assistance, (2) approach, (3) organizational profiles, and (4) budget and budget justification. Each criterion has been assigned a point value. The point values (summing up to 100) indicate the maximum numerical weight each criterion may be given in the review and evaluation process.

Reviewers also are evaluating the project products and materials that you propose. They will be interested in your plans for sustaining your project without Federal funds if the evaluation findings are supportive. Reviewers will be looking to see that the total budget you propose and the way you have apportioned that budget are appropriate and reasonable for the project you have described. Remember that the reviewers only have the information that you give them—it needs to be clear, complete, and concise.

The results of the competitive review are a primary factor in making funding decisions. In addition, Federal staff conducts administrative reviews of the applications and, in light of the results of the competitive review, will recommend applications for funding to the ACYF Commissioner. ACYF reserves the option of discussing applications with other funding sources when this is in the best interest of the Federal government. ACYF may also solicit and consider comments from ACF Regional Office staff in making funding decisions. ACYF may take into consideration the involvement (financial and/or programmatic) of the private sector, national, or State or community foundations; a favorable balance between Federal and non-Federal funds for the proposed project; or the potential for high benefit from low Federal investment. ACYF may elect not to fund any applicants having known management, fiscal, reporting, programmatic, or other problems which make it unlikely that they would be able to provide effective services or effectively complete the proposed activity.

With the results of the peer review and the information from Federal staff, the Commissioner of ACYF makes the final funding decisions. The Commissioner may give special consideration to applications proposing services of special interest to the Government and to achieve geographic distributions of grant awards. Applications of special interest may include, but are not limited to, applications focusing on unserved or inadequately served clients or service areas and programs addressing diverse ethnic populations.

Approved but unfunded applications: In cases where more applications are approved for funding than ACF can fund with the money available, the Grants Officer shall fund applications in their order of approval until funds run out. In this case, ACF has the option of carrying over the approved applications up to a year for funding consideration in a later competition of the same program. These applications need not be reviewed and scored again if the program's evaluation criteria have not changed. However, they must then be placed in rank order along with other applications in the later competition.

3. Other

Anticipated Announcement and Award Dates: Applications will be reviewed in the Summer of 2004. Grant awards will have a start date no later than September 30, 2004.

VI. Award Administration Information

1. Award Notices

Successful applicants will receive a Financial Assistance Award which will set forth the amount of funds granted, the terms and conditions of the grant or cooperative agreement, the effective date of the grant, the budget period for which initial support will be given, the non-Federal share to be provided, if applicable, and the total project period for which support is contemplated. The Financial Assistance Award will be signed by the Grants Officer and transmitted via postal mail.

The Commissioner will notify organizations in writing when their applications will not be funded. Every effort will be made to notify all unsuccessful applicants as soon as possible after final decisions are made.

2. Administrative and National Policy Requirements

45 CFR Part 74 and 45 CFR Part 92

Conditions of the Cooperative Agreement: A cooperative agreement is a specific method of awarding Federal assistance in which substantial Federal involvement is anticipated. A cooperative agreement clearly defines the respective responsibilities of the Children's Bureau and the grantee prior to award. The Children's Bureau anticipates that agency involvement will produce programmatic benefits to the recipient otherwise unavailable to them for carrying out the project. The involvement and collaboration includes Children's Bureau review and approval of planning stages of the activities before implementation phases may begin and Children's Bureau and recipient joint collaboration in the performance of key programmatic activities (i.e., strategic planning, implementation, information technology enhancements, training and technical assistance, publications or products, and evaluation). There will be close monitoring by the Children's Bureau regarding the requirements stated in this announcement that limit the grantee's discretion with respect to scope of services offered, organizational structure and management processes. There will also be close Children's Bureau monitoring during performance, in order to assure compliance with the intent of this funding. This monitoring will exceed those Federal stewardship responsibilities customary for grant activities.

Faith-based organizations that receive funding may not use Federal financial assistance, including funds, to meet any cost-sharing requirements or to support inherently religious activities, such as worship, religious instruction, or prayer.

3. Reporting Requirements

Programmatic Reports and Financial Reports are required semi-annually with final reports due 90 days after project end date. All required reports will be submitted in a timely manner, in recommended formats (to be provided), and the final report will also be submitted on disk or electronically using a standard word-processing program.

Within 90 days of project end date, the applicant will submit a copy of the final report, the evaluation report, and any program products to the National Clearinghouse on Child Abuse and Neglect, 330 C Street, SW., Washington, DC 20447. This is in addition to the standard requirement that the final program and evaluation report must also be submitted to the Grants Management Specialist and the Federal Project Officer.

Original reports and one copy should be mailed to: Administration for Children and Families, Office of Grants Management, Division of Discretionary Grants, 370 L'Enfant Promenade, SW., Washington, DC 20447.

VII. Agency Contacts

Program Office Contact

Pat Campiglia, 330 C Street, SW, Washington, DC 20447, Telephone: 202-205-8060, E-mail: pcampiglia@acf.hhs.gov.

Grants Management Office Contact

William Wilson, 330 C Street, SW, Washington, DC 20447, Telephone: 202-205-8913, E-mail: wwilson@acf.hhs.gov.

General

The Dixon Group, ACYF Operations Center, 118 Q Street, NE, Washington, DC 20002-2132, Telephone: 866-796-1591.

VIII. Other Information

Additional information about this program and its purpose can be located on the following Web sites: http://www.acf.hhs.gov/programs/cb/.

Copies of the following Forms, Assurances, and Certifications are available online at http://www.acf.hhs.gov/programs/ofs/grants/form.htm.

Standard Form 424: Application for Federal Assistance

Standard Form 424A: Budget Information

Standard Form 424B: Assurances—Non-Construction Programs

Form LLL: Disclosure of Lobbying

Certification Regarding Environmental Tobacco Smoke

Standard Form 310: Protection of Human Subjects

Survey for Private, Non-Profit Grant Applicants (optional)

The State Single Point of Contact SPOC listing is available on line at http://www.whitehouse.gov/omb/grants/spoc.html.

Dated: April 20, 2004.
Joan E. Ohl,
Commissioner, Administration on Children, Youth and Families.

[FR Doc. 04-9547 Filed 4-26-04; 8:45 am]

BILLING CODE 4184-01-P